COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and services from the Procurement List previously furnished by such agencies.

DATES: Date added to and deleted from the Procurement List: January 13, 2019.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 11/2/2018 (83 FR 213), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Product(s)

NSN(s)—Product Name(s): MR 8000-9999—Power Panel Program, MR Series 8000-9999

Mandatory Source of Supply: Winston-Salem Industries for the Blind, Inc., Winston-Salem, NC

Contracting Activity: Defense Commissary Agency

Mandatory for: The requirements of military commissaries and exchanges in accordance with the Code of Federal Regulations 41 CFR 51-6.4.

Distribution: C-List

Deletions

On 11/2/2018 (83 FR 213) and 11/9/2018 (83 FR 218), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Names: 8465-01-141-2321—Pack, Personal Gear, Forest Service

Mandatory Source of Supply: Helena Industries, Inc., Helena, MT

Contracting Activity: DLA Troop Support, Philadelphia, PA

NSNs—Product Names:

6645-01-623-8819—Clock, Wall, Quartz, Mahogany, 15.5″ Diameter

6645-01-623-8820—Clock, Wall, Self-Set, Mahogany, 15.5″ Diameter

6645-01-623-8821—Clock, Wall, Quartz, Custom Logo, Mahogany, 15.5″ Diameter

6645-01-623-8822—Clock, Wall, Self-Set, Custom Logo, Mahogany, 15.5″ Diameter

6645-01-557-3159—Clock, Wall, Self-Set, Bronze, 8″ Diameter

6645-01-557-8132—Clock, Wall, Self-Set, Custom Logo, Bronze, 8″ Diameter

Mandatory Source of Supply: Chicago Lighthouse Industries, Chicago, IL

Contracting activity: GSA/FAS Admin. Svcs. Acquisition BR (2, New York, NY)

NSNs—Product Name(s):

MR 440—Candle, Soy, Vanilla Cupcake Scented, 8.5 oz

MR 441—Candle, Soy, Berry Fusion Scented, 8.5 oz

MR 442—Candle, Soy, Cinnamon Apple Scented, 8.5 oz

MR 444—Candle, Soy, Macintosh Apple Scented, 8.5 oz

MR 446—Candle, Soy, Caribbean Breezes Scented, 8.5 oz

MR 357—Tumblers, Red, White and Blue, Includes Shipper 10357

Mandatory Source of Supply: Industries for the Blind and Visually Impaired, Inc., West Allis, WI

Contracting Activity: Defense Commissary Agency

Services

Service Type: Janitorial/Custodial Service

Mandatory for: U.S. Army Reserve Center: 1750 East 29th Street, Tucson, AZ

Mandatory Source of Supply: Catholic Community Services of Southern Arizona, Tucson, AZ

Contracting Activity: Dept. of the Army, W40M Northeregion Contract OFC

Service Type: Grounds Maintenance Service

Mandatory for: Naval Support Activity, 2300 General Meyers Avenue, Algiers, LA

Mandatory Source of Supply: Goodworks, Inc., New Orleans, LA

Contracting Activity: Dept. of the Navy, NAVFAC Southeast

Service Type: Janitorial/Custodial Service

Mandatory for: Navy Aviation Supply Office: Buildings 3A, 3B, 3C, 3D, 4A, 5A, 5B, 36/1, 36/2, 36/3, and 11 Trailers, Philadelphia, PA

Mandatory Source of Supply: The Chimes, Inc., Baltimore, MD

Contracting Activity: Dept. of the Navy, U.S. Fleet Forces Command

Service Type: Facilities Maintenance Service

Mandatory for: Mississippi Air National Guard: ANG CRTC/LGC, 4715 Hewes Avenue, Building 1, Gulfport, MS

Mandatory Source of Supply: Mississippi Goodworks, Inc., Gulfport, MS

Contracting Activity: Dept. of Defense, DOD/OFF of Secretary of DEF. (EXC. MIL. DEPTS.)

Service Type: Janitorial/Custodial Service

Mandatory for: New Orleans Naval Support Activity: (basewide except Commissary & Exchange facilities), New Orleans, LA

Mandatory Source of Supply: Goodworks, Inc., New Orleans, LA

Contracting Activity: Dept. of the Navy, NAVFAC Southeast

Service Type: Grounds Maintenance Service

Mandatory for: Fort Ord, Fort Ord, CA

Mandatory Source of Supply: Unknown

Contracting Activity: Dept. of the Army, W40M Northeregion Contract OFC

Service Type: Janitorial/Custodial Service

Mandatory for: U.S. Army Reserve Center: 500 W 24th Street, Chester, PA

Mandatory Source of Supply: The Chimes, Inc., Baltimore, MD

Contracting Activity: Dept. of the Army, W40M Northeregion Contract OFC

Michael R. Jurkowski,
Deputy Director, Business & PL Operations, Business Operations.

[FR Doc. 2018-27147 Filed 12-13-18; 8:45 am]

BILLING CODE 6353-01-P